NUCLEAR REGULATORY COMMISSION

10 CFR Part 70

[NRC-2024-0051]

Regulatory Guide: Standard Format and Content of Safety Analysis Reports for Uranium Enrichment Facilities

AGENCY: Nuclear Regulatory Commission.

ACTION: Regulatory guide; withdrawal.

SUMMARY: The U.S. Nuclear Regulatory Commission (NRC) is withdrawing Regulatory Guide (RG) 3.25, Revision 1, “Standard Format and Content of Safety Analysis Reports for Uranium Enrichment Facilities.” This RG Revision is being withdrawn because it only refers to NUREG-1520, “Standard Review Plan for the Review of a License Application for a Fuel Cycle Facility,” which provides guidance on the subject matter to applicants and NRC staff reviewers.

DATES: The effective date of the withdrawal of RG 3.25, Revision 1, is March 19, 2024.

ADDRESSES: Please refer to Docket ID NRC-2024-0051 when contacting the NRC about the availability of information regarding this document. You may obtain publicly available information related to this document using any of the following methods:

Federal Rulemaking Website: Go to https://www.regulations.gov and search for Docket ID NRC-2024-0051. Address questions about Docket IDs in Regulations.gov to Stacy Schumann; telephone: 301-415-0624; email: Stacy.Schumann@nrc.gov. For technical questions, contact the individuals listed in the FOR FURTHER INFORMATION CONTACT section of this document.

NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Stephen Poy, Office of Nuclear Material Safety and Safeguards, telephone: 301-415-3175, email: Stephen.Poy@nrc.gov; or Harriet Karagiannis, Office of Nuclear Regulatory Research, telephone: 301-415-2493, email: Harriet.Karagiannis@nrc.gov. Both are staff of the U.S. Nuclear Regulatory Commission, Washington, DC 20555-0001.

SUPPLEMENTARY INFORMATION:

Discussion

The NRC is withdrawing RG 3.25, Revision 1, “Standard Format and Content of Safety Analysis Reports for Uranium Enrichment Facilities.” RG 3.25, Revision 1, provided guidance on the standard format and content of a safety analysis report (SAR) for uranium enrichment facilities and related documents submitted as part of an application to construct or modify and operate a nuclear fuel cycle facility. This RG revision endorsed the standard format and content for SARs and integrated safety analysis (ISA) summaries described in NUREG-1520, “Standard Review Plan for the Review of a License Application for a Fuel Cycle Facility,” as a process that the NRC staff found acceptable for meeting the regulatory requirements. Applicants use NUREG-1520 while developing fuel cycle facility applications, and NRC staff use NUREG-1520 while reviewing these applications.

NUREG-1520 provides current guidance to applicants and NRC staff reviewers on the acceptable content and format of SARs and ISA summaries. Therefore, the NRC determined that RG 3.25, Revision 1 is no longer needed to simply refer to NUREG-1520 and is being withdrawn. Revision 0 of RG 3.25 is also still available but is not the most recent acceptable guidance for developing and reviewing these license applications.

The withdrawal of RG 3.25, Revision 1, does not alter any prior or existing NRC licensing approval or the acceptability of licensee commitments to RG 3.25, Revision1. Although RG 3.25, Revision 1 is withdrawn, current licensees may continue to use it and withdrawal does not affect any existing licenses or agreements. However, RG 3.25, Revision 1 should not be used in future requests or applications for NRC licensing actions. The NRC is considering the withdrawal of RG 3.25, Revision 0.

Additional Information

As noted in the Federal Register on December 9, 2022 (87 FR 75671), this document is being published in the “Rules” section of the Federal Register to comply with publication requirements under chapter I of title 1 of the Code of Federal Regulations.

Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: March 14, 2024.
For the Nuclear Regulatory Commission.
Meraj Rahimi,
Chief, Regulatory Guide and Programs Management Branch, Division of Engineering, Office of Nuclear Regulatory Research.

[FR Doc. 2024-05786 Filed 3-18-24; 8:45 am]

BILLING CODE 7590-01-P